DEPARTMENT OF THE INTERIOR

Bureau of Land Management

[CA-610-01-1610-DL]

Lower Chemehuevi Valley, San Bernadino County, CA

AGENCY: Bureau of Land Management, Interior.

ACTION: Proposed order for temporary closure of selected routes of travel in the Lower Chemehuevi Valley of San Bernardino County, California and notice of availability of environmental assessment and draft finding of no significant impact on the proposed closures.

SUMMARY: Selected routes of travel located in the lower Chemehuevi Valley, California are proposed to be temporarily closed to vehicle use pursuant to 43 CFR 8364.1. The proposed closure is intended to protect public lands and resources by minimizing potential adverse impacts to sensitive resources, including the desert tortoise and its habitat from motorized vehicle use. This is an interim protection measure pending designation of routes as “open”, “closed”, or “limited” through an amendment to the California Desert Conservation Area (CDCA) Plan of 1980, as amended. By taking this interim action as allowed under 43 CFR 8364.1, the Bureau of Land Management contributes to the conservation of the threatened and endangered desert tortoise in accordance with section 7(a)(1) of the Endangered Species Act, 16 U.S.C. 1536(a)(1). BLM also avoids making any irreversible or irretrievable commitment of resources which would foreclose any reasonable and prudent alternatives which might be required as a result of the consultation on the CDCA plan in accordance with section 7(d) of the ESA, 16 U.S.C. 1536(d). We anticipate that this closure will remain in effect until September 1, 2002, when a record of decision is signed for the amendment to the California Desert Conservation Area Plan for the Northern and Eastern Colorado Desert, the subject of the consultation.

Exceptions to the vehicle closure include Bureau of Land Management (BLM) operation and maintenance vehicles, law enforcement and fire vehicles, and other emergency vehicles. In addition, on certain specified routes in the lower Chemehuevi Valley, valid mining claim holders are exempt from the closure for purposes of gaining access to their claims.

The Environmental Assessment concerning this closure is available for a 15 day review period. Interested parties should contact the Field Office Manager at the address below for a copy and review schedule. The documents are also available for review on the BLM Needles Field Office web site (www.ca.blm.gov/needles). Written comments may be sent to the address listed below in this notice.

The Order for closure will be posted in the California BLM Needles Field Office and the Arizona BLM Lake Havasu Field Office, and at places near and/or within the area to which the closure applies.

DATES: No sooner than 30 days after publication of this notice, a final closure determination will be published.

ADDRESSES: Written comments may be sent to the Needles Field Office, Attn: Planning and Environmental Coordinator, at 101 W. Spikes Road, Needles, California 92363.

SUPPLEMENTARY INFORMATION: On March 16, 2000, the Center for Biological Diversity, and others (Center) filed for injunctive relief in U.S. District Court, Northern District of California (Court) against the Bureau of Land Management (BLM) alleging that the BLM was in violation of section 7 of the Endangered Species Act, 16 U.S.C. 1536(ESA) by failing to enter into formal consultation with the U.S. Fish and Wildlife Service (FWS) on the effects of adoption of the California Desert Conservation Area Plan (CDCA Plan), as amended, upon threatened and endangered species. On August 25, 2000, the BLM acknowledged through a court stipulation that activities authorized, permitted, or allowed under the CDCA Plan may adversely affect threatened and endangered species, and that the BLM is required to consult with the FWS to insure that adoption and implementation of the CDCA Plan is not likely to jeopardize the continued existence of threatened and endangered species or to result in the destruction or adverse modification of critical habitat of listed species.

Although BLM has received biological opinions on selected activities, consultation on the overall CDCA Plan is necessary to address the cumulative effects of all the activities authorized by the CDCA Plan. Consultation on the overall Plan is complex and the completion date is uncertain. Absent consultation on the entire Plan, the impacts of individual activities, when added together with the impacts of other activities in the desert, are not known. The BLM entered into negotiations with plaintiffs regarding interim actions to be taken to provide protection for endangered and threatened species pending completion of the consultation on the CDCA Plan. Agreement on these interim actions avoided litigation of plaintiffs' request for injunctive relief and the threat of an injunction prohibiting all activities authorized under the Plan. These interim agreements have allowed BLM to continue to authorize appropriate levels of activities throughout the planning area during the lengthy consultation process while providing appropriate protection to the desert tortoise and other listed species in the short term. By taking interim actions as allowed under 43 CFR Subpart 8364, BLM contributes to the conservation of endangered and threatened species in accordance with section 7(a)(1) of the ESA, 16 U.S.C. 1536(a)(1). BLM also avoids making any irreversible or irretrievable commitment of resources which would foreclose any reasonable and prudent alternative measures which might be required as a result of the consultation on the CDCA plan in accordance with section 7(d) of the ESA, 16 U.S.C. 1536(d). In January 2001, the parties signed the Stipulation and Proposed Order Concerning All Further Injunctive Relief providing for closures described in this Notice.

All existing routes in the subject areas are being or will be evaluated and proposed for designation as Open, Closed, or Limited through the land use planning process as amendments to the California Desert Conservation Area Plan. These designations will be based on criteria identified in 43 CFR 8342.1. Management of routes proposed for closure will minimize the potential for any adverse effects pending designation.

The proposed closure in the lower Chemehuevi Valley is necessary to minimize potential adverse impacts to the desert tortoise and its habitat. The proposed project area lies adjacent to and partially within the desert tortoise Chemehuevi Critical Habitat Unit. The closure will reduce the extent of motorized vehicle use in desert tortoise habitat and help prevent mortality of desert tortoise and other species.

The lower Chemehuevi Valley closure is described as follows: The closed routes are located south of Havasu Lake Road, one-mile west of the border of the Chemehuevi Indian Tribe Reservation, north of the northern boundary of the Whipple Mountains Wilderness Area and the East Mojave Heritage Trail, and east of U.S. Highway 95, San Bernardino County, California. Specifically, this order closes dirt routes identified in the Northern and Eastern Colorado Desert Plan in the following areas:

Route #690517, Township 4 North, Range 24 East, Sections 6, 7, 8, 10

Route #690522, Township 4½ North, Range 24 East, Section 32; Township 4 North, Range 24 East, Section 5

Route #690523, Township 4½ North, Range 24 East, Sections 32; Township 4 North, Range 24 East, Sections 4, 5; closed except to persons holding valid mining claims accessible only by these otherwise closed routes.

Route #690524, Township 4½ North, Range 24 East, Section 32; Township 4 North, Range 24 East, Sections 4, 5; closed except to persons holding valid mining claims accessible only by these otherwise closed routes.

Route #690525, Township 4½ North, Range 24 East, Section 33; Township 4 North, Range 24 East, Sections 3, 4

Route #690527, Township 4 North, Range 24 East, Section 4, closed except to persons holding valid mining claims accessible only by these otherwise closed routes.

Route #690528, Township 4 North, Range 24 East, Section 4, closed except to persons holding valid mining claims accessible only by these otherwise closed routes.

Route #690529, Township 4 North, Range 24 East, Section 4, closed except to persons holding valid mining claims accessible only by these otherwise closed routes.

Route #690530, Township 4 North, Range 24 East, Section 3, 4, 9

Route #690531, Township 4 North, Range 24 East, Sections 2,3, 10

Route #690532, Township 4 North, Range 24 East, Section 1, 2

Route #690533, Township 4 North, Range 24 East, Section 1, 2

Route #690534, Township 4 North, Range 24 East, Section 2

Route #690536, Township 4 North, Range 24 East, Section 2, 3, 10, 11

Route #690537, Township 4 North, Range 24 East, Section 10

Route #690538, Township 4 North, Range 24 East, Section 2

Route #690540, Township 4 North, Range 24 East, Sections 11

Route #690542, Township 4½ North, Range 24 East, Section 34, 35, 36; Township 5 North, Range 24 East, Sections 34, 35

Route #690543, Township 4½ North, Range 24 East, Section 34, 35

Route #690544, Township 4½ North, Range 24 East, Section 35; Township 4 North, Range 24 East, Section 2

Route #690546, Township 4 North, Range 24 East, Section 14, 15

Route #690896, Township 4 North, Range 23 East, Section 1 and Township 5 North, Range 23 East, Section 36.

Less than one-quarter mile of route numbers 690532 and 690533 extend onto public lands managed by the BLM's Arizona Lake Havasu Field Office.

FOR FURTHER INFORMATION CONTACT: George R. Meckfessel, Planning and Environmental Coordinator, Needles Field Office, 101 W. Spikes Rd., Needles, CA 92363, Tel: 760-326-7000.

Dated: July 11, 2001.
Timothy Z. Smith,
Acting DSD, Natural Resources.

[FR Doc. 01-19047 Filed 7-27-01; 8:45 am]

BILLING CODE 4310-40-P